DEPARTMENT OF LABOR

Employment and Training Administration

[TA-W-51,487 and TA-W-51,487A]

R.A.G.S., Inc., Selective HR Solutions V, Inc., Lexington, NC and R.A.G.S., Inc., Selective HR Solutions V, Inc., Richfield, NC; Amended Certification Regarding Eligibility To Apply for Worker Adjustment Assistance

In accordance with section 223 of the Trade Act of 1974 (19 U.S.C. 2273) the Department of Labor issued a Certification of Eligibility to Apply for Worker Adjustment Assistance on April 29, 2003, applicable to workers of R.A.G.S., Inc., Lexington, North Carolina and Richfield, North Carolina. The notice was published in the Federal Register on May 9, 2003 (68 FR 25061).

At the request of the State agency, the Department reviewed the certification for workers of the subject firm.

Information provided by the State shows that workers of R.A.G.S., Inc. were leased workers of Selective HR Solutions V, Inc. to produce ladies' jackets at the Lexington, North Carolina location of the subject firm. Leased workers of Selective HR Solutions V, Inc. were also employed at the subject firm's Richfield, North Carolina location of the subject firm to cut the material that was used to produce jackets at the Lexington, North Carolina location.

Information also shows that workers separated from employment at the subject firm had their wages reported under a separate unemployment insurance (UI) tax account for Selective HR Solutions V, Inc.

Accordingly, the Department is amending the certification to properly reflect these matters.

The intent of the Department's certification is to include all workers of R.A.G.S., Inc. who were adversely affected by increased imports.

The amended notice applicable to TA-W-51,487 and TA-W-51,487A are hereby issued as follows:

All workers of R.A.G.S., Inc., Selective HR Solutions V, Inc., Lexington, North Carolina (TA-W-51,487) and R.A.G.S., Inc., Selective HR Solutions V, Inc., Richfield, North Carolina (TA-W-51,487A), who became totally or partially separated from employment on or after April 11, 2002, through April 29, 2005, are eligible to apply for adjustment assistance under section 223 of the Trade Act of 1974.

Signed at Washington, DC this 24th day of June 2003.
Elliott S. Kushner,
Certifying Officer, Division of Trade Adjustment Assistance.

[FR Doc. 03-16899 Filed 7-2-03; 8:45 am]

BILLING CODE 4510-30-P